DEPARTMENT OF HOMELAND SECURITY

Federal Emergency Management Agency

44 CFR Part 65

[Docket ID FEMA-2011-0002]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Cochise (FEMA Docket No.: B-1156) | City of Sierra Vista (10-09-2513P) | August 11, 2010; August 18, 2010; Sierra Vista Herald | The Honorable Bob Strain, Mayor, City of Sierra Vista, 1011 North Coronado Drive, Sierra Vista, AZ 85635 | August 30, 2010 | 040017
Maricopa (FEMA Docket No.: B-1156) | Town of Gilbert (10-09-0572P) | August 12, 2010; August 19, 2010; Arizona Business Gazette | The Honorable John Lewis, Mayor, Town of Gilbert, 50 East Civic Center Drive, Gilbert, AZ 85296 | July 30, 2010 | 040044
Maricopa (FEMA Docket No.: B-1156) | City of Goodyear (10-09-1335P) | August 5, 2010; August 12, 2010; Arizona Business Gazette | The Honorable James M. Cavanaugh, Mayor, City of Goodyear, P.O. Box 5100, Goodyear, AZ 85338 | July 30, 2010 | 040046
Maricopa (FEMA Docket No.: B-1135) | City of Phoenix (09-09-1059P) | May 7, 2010; May 14, 2010; Arizona Republic | The Honorable Phil Gordon, Mayor, City of Phoenix, 200 West Washington Street, 11th Floor, Phoenix, AZ 85003 | April 30, 2010 | 040051
Maricopa (FEMA Docket No.: B-1135) | City of Phoenix (10-09-0146P) | May 6, 2010; May 13, 2010; Arizona Republic | The Honorable Phil Gordon, Mayor, City of Phoenix, 200 West Washington Street, 11th Floor, Phoenix, AZ 85003 | April 28, 2010 | 040051
Maricopa (FEMA Docket No.: B-1141) | Unincorporated areas of Maricopa County (09-09-1387P) | June 10, 2010; June 17, 2010; Arizona Business Gazette | Mr. Don Stapley, Chairman, Maricopa County Board of Supervisors, 301 West Jefferson Street, 10th Floor, Phoenix, AZ 85003 | October 15, 2010 | 040037
Pima (FEMA Docket No.: B-1156) | City of Tucson (10-09-1751P) | July 23, 2010; July 30, 2010; Arizona Daily Star | The Honorable Bob Walkup, Mayor, City of Tucson, 255 West Alameda, Tucson, AZ 85701 | July 13, 2010 | 040076
Pinal (FEMA Docket No.: B-1156) | City of Casa Grande (10-09-1348P) | July 23, 2010; July 30, 2010; Casa Grande Dispatch | The Honorable Robert M. Jackson, Mayor, City of Casa Grande, 510 East Florence Boulevard, Casa Grande, AZ 85122 | August 11, 2010 | 040080
Pinal (FEMA Docket No.: B-1156) | Town of Mammoth (10-09-1056P) | July 31, 2010; August 7, 2010; Casa Grande Dispatch | The Honorable Craig Williams, Mayor, Town of Mammoth, P.O. Box 404, Mammoth, AZ 85618 | December 6, 2010 | 040086
Pinal (FEMA Docket No.: B-1156) | Unincorporated areas of Pinal County (10-09-1056P) | July 31, 2010; August 7, 2010; Casa Grande Dispatch | Mr. Pete Rios, Chairman, Pinal County Board of Supervisors, P.O. Box 827, Florence, AZ 85132 | December 6, 2010 | 040077
Yavapai (FEMA Docket No.: B-1135) | City of Prescott (09-09-0658P) | May 10, 2010; May 17, 2010; Prescott Daily Courier | The Honorable Marlin Kuykendall, Mayor, City of Prescott, 201 South Cortez Street, Prescott, AZ 86303 | April 30, 2010 | 040098
Yavapai (FEMA Docket No.: B-1135) | Unincorporated areas of Yavapai County (09-09-0658P) | May 10, 2010; May 17, 2010; Prescott Daily Courier | Mr. Chip Davis, Chairman, Yavapai County Board of Supervisors, 1015 Fair Street, Prescott, AZ 86305 | April 30, 2010 | 040093
California:
Sacramento (FEMA Docket No.: B-1156) | Unincorporated areas of Sacramento County (10-09-1947P) | August 11, 2010; August 18, 2010; The Sacramento Bee | Mr. Roger Dickinson, Chairman, Sacramento County Board of Supervisors, 700 H Street, Suite 2450, Sacramento, CA 95814 | December 16, 2010 | 060262
San Diego (FEMA Docket No.: B-1156) | City of Oceanside (10-09-1317P) | August 2, 2010; August 9, 2010; North County Times | The Honorable Jim Wood, Mayor, City of Oceanside, 300 North Coast Highway, Oceanside, CA 92054 | July 26, 2010 | 060294
San Diego (FEMA Docket No.: B-1135) | City of Poway (10-09-1118P) | May 13, 2010; May 20, 2010; Poway News Chieftain | The Honorable Don Higginson, Mayor, City of Poway, 13325 Civic Center Drive, Poway, CA 92064 | September 17, 2010 | 060702
Ventura (FEMA Docket No.: B-1135) | City of Simi Valley (09-09-2409P) | May 28, 2010; June 4, 2010; Ventura County Star | The Honorable Paul Miller, Mayor, City of Simi Valley, 2929 Tapo Canyon Road, Simi Valley, CA 93063 | October 4, 2010 | 060421
Colorado:
Arapahoe (FEMA Docket No.: B-1141) | City of Aurora (10-08-0421P) | June 3, 2010; June 10, 2010; Aurora Sentinel | The Honorable Ed Tauer, Mayor, City of Aurora, 15151 East Alameda Parkway, Aurora, CO 80012 | October 8, 2010 | 080002
Boulder (FEMA Docket No.: B-1141) | City of Boulder (10-08-0267P) | June 10, 2010; June 17, 2010; The Daily Camera | The Honorable Susan Osborne, Mayor, City of Boulder, P.O. Box 791, Boulder, CO 80306 | October 15, 2010 | 080024
Boulder (FEMA Docket No.: B-1141) | Unincorporated areas of Boulder County (10-08-0267P) | June 10, 2010; June 17, 2010; The Daily Camera | Ms. Cindy Domenico, Chairwoman, Boulder County Board of Commissioners, P.O. Box 471, Boulder, CO 80306 | October 15, 2010 | 080023
Eagle (FEMA Docket No.: B-1156) | Unincorporated areas of Eagle County (10-08-0478P) | September 2, 2010; September 9, 2010; The Eagle Valley Enterprise | Ms. Sara Fisher, Chairwoman, Eagle County Board of Commissioners, P.O. Box 850, Eagle, CO 81631 | August 25, 2010 | 080051
Summit (FEMA Docket No.: B-1156) | Unincorporated areas of Summit County (10-08-0513P) | August 6, 2010; August 13, 2010; Summit County Journal | Mr. Bob French, Chairman, Summit County Board of Commissioners, P.O. Box 68, Breckenridge, CO 80424 | July 30, 2010 | 080290
Florida:
Charlotte (FEMA Docket No.: B-1141) | Unincorporated areas of Charlotte County (10-04-1461P) | May 28, 2010; June 4, 2010; Charlotte Sun | Mr. Bob Starr, Chairman, Charlotte County Board of Commissioners, 18500 Murdock Circle, Port Charlotte, FL 33948 | October 4, 2010 | 120061
Collier (FEMA Docket No.: B-1141) | City of Naples (10-04-3471P) | June 4, 2010; June 11, 2010; Naples Daily News | The Honorable Bill Barnett, Mayor, City of Naples, 735 8th Street South, Naples, FL 34102 | May 21, 2010 | 125130
Hillsborough (FEMA Docket No.: B-1156) | Unincorporated areas of Hillsborough County (10-04-4807P) | August 2, 2010; August 9, 2010; The Tampa Tribune | Mr. Ken Hagan, Chairman, Hillsborough County Board of Commissioners, P.O. Box 1110, Tampa, FL 36601 | July 22, 2010 | 120112
Leon (FEMA Docket No.: B-1135) | City of Tallahassee (09-04-3114P) | May 11, 2010; May 18, 2010; Tallahassee Democrat | The Honorable John Marks, Mayor, City of Tallahassee, 300 South Adams Street, B-28, Tallahassee, FL 32301 | September 15, 2010 | 120144
Orange (FEMA Docket No.: B-1135) | City of Ocoee (10-04-4198P) | May 28, 2010; June 4, 2010; Orlando Sentinel | The Honorable S. Scott Vandergrift, Mayor, City of Ocoee, 150 North Lakeshore Drive, Ocoee, FL 34761 | May 21, 2010 | 120185
Polk (FEMA Docket No.: B-1156) | City of Lakeland (10-04-4064P) | August 11, 2010; August 18, 2010; The Ledger | The Honorable Gow Fields, Mayor, City of Lakeland, 228 South Massachusetts Avenue, Lakeland, FL 33801 | July 30, 2010 | 120267
Pinellas (FEMA Docket No.: B-1135) | City of Clearwater (10-04-4136P) | May 7, 2010; May 14, 2010; St. Petersburg Times | The Honorable Frank V. Hibbard, Mayor, City of Clearwater, P.O. Box 4748, Clearwater, FL 33758 | April 28, 2010 | 125096
Sarasota (FEMA Docket No.: B-1141) | City of Sarasota (10-04-3887P) | June 4, 2010; June 11, 2010; Sarasota Herald-Tribune | The Honorable Kelly M. Kirschner, Mayor, City of Sarasota, 1565 1st Street, Sarasota, FL 34236 | May 26, 2010 | 125150
St. Johns (FEMA Docket No.: B-1156) | Unincorporated areas of St. Johns County (10-04-2018P) | July 26, 2010; August 2, 2010; St. Augustine Record | Mr. Michael Wanchick, St. Johns County Administrator, 500 San Sebastian View, St. Augustine, FL 32084 | July 21, 2010 | 125147
Georgia:
DeKalb (FEMA Docket No.: B-1160) | Unincorporated areas of DeKalb County (10-04-4217P) | September 9, 2010; September 16, 2010; The Champion Newspaper | Mr. W. Burrell Ellis, Jr., DeKalb County Chief Executive Officer, 330 West Ponce De Leon Avenue, Decatur, GA 30030 | October 4, 2010 | 130065
Polk (FEMA Docket No.: B-1141) | City of Cedartown (09-04-0250P) | April 22, 2010; April 29, 2010; The Cedartown Standard | Mr. Larry Odom, Chairman, Cedartown Board of Commissioners, 201 East Avenue, Cedartown, GA 30125 | August 27, 2010 | 130153
Whitfield (FEMA Docket No.: B-1135) | City of Dalton (09-04-1965P) | March 26, 2010; April 2, 2010; The Daily Citizen | The Honorable David Pennington, Mayor, City of Dalton, P.O. Box 1205, Dalton, GA 30720 | April 14, 2010 | 130194
Whitfield (FEMA Docket No.: B-1135) | Unincorporated areas of Whitfield County (09-04-1965P) | March 26, 2010; April 2, 2010; The Daily Citizen | Mr. Mike Babb, Chairman, Whitfield County, 1407 Burleyson Drive, Dalton, GA 30720 | April 14, 2010 | 130193
Hawaii:
Hawaii (FEMA Docket No.: B-1135) | Unincorporated areas of Hawaii County (09-09-1789P) | April 30, 2010; May 7, 2010; Hawaii Tribune-Herald | The Honorable William P. Kenoi, Mayor, Hawaii County, 25 Aupuni Street, Hilo, HI 96720 | September 7, 2010 | 155166
Hawaii (FEMA Docket No.: B-1141) | Unincorporated areas of Hawaii County (09-09-2120P) | June 10, 2010; June 17, 2010; Hawaii Tribune-Herald | The Honorable William P. Kenoi, Mayor, Hawaii County, 25 Aupuni Street, Hilo, HI 96720 | October 15, 2010 | 155166
Idaho:
Ada (FEMA Docket No.: B-1135) | Unincorporated areas of Ada County (07-10-0642P) | May 13, 2010; May 20, 2010; The Idaho Statesman | Mr. Fred Tilman, Chairman, Ada County Board of Commissioners, 200 West Front Street, 3rd Floor, Boise, ID 83702 | September 17, 2010 | 160001
Teton (FEMA Docket No.: B-1135) | Unincorporated areas of Teton County (09-10-0227P) | May 13, 2010; May 20, 2010; Teton Valley News | Mr. Larry Young, Chairman, Teton County Board of Commissioners, 150 Courthouse Drive, Room 109, Driggs, ID 83422 | September 17, 2010 | 160230
Teton (FEMA Docket No.: B-1135) | City of Victor (09-10-0365P) | May 13, 2010; May 20, 2010; Teton Valley News | The Honorable Scott Fitzgerald, Mayor, City of Victor, P.O. Box 122, Victor, ID 83455 | September 17, 2010 | 160119
Iowa:
Hamilton (FEMA Docket No.: B-1135) | City of Webster City (09-07-1058P) | April 30, 2010; May 7, 2010; The Daily Freeman-Journal | The Honorable Janet Adams, Mayor, City of Webster City, P.O. Box 217, Webster City, IA 50595 | September 7, 2010 | 190137
Kansas:
Johnson (FEMA Docket No.: B-1141) | City of Fairway (09-07-1447P) | June 9, 2010; June 16, 2010; The Johnson County Sun | The Honorable Jerry Wiley, Mayor, City of Fairway, 4210 Shawnee Mission Parkway, Suite 100 Fairway, KS 66205 | May 28, 2010 | 205185
Sedgwick (FEMA Docket No.: B-1135) | City of Derby (09-07-1398P) | May 12, 2010; May 19, 2010; The Derby Informer | The Honorable Dion Avello, Mayor, City of Derby, 611 Mulberry Road, Derby, KS 67037 | September 16, 2010 | 200323
Louisiana:
Tangipahoa (FEMA Docket No.: B-1141) | Unincorporated areas of Tangipahoa Parish (09-06-2518P) | June 4, 2010; June 11, 2010; Hammond Daily Star | Mr. Gordon Burgess, President, Tangipahoa Parish, 206 East Mulberry Street, Amite, LA 70422 | July 23, 2010 | 220206
Mississippi:
Lee (FEMA Docket No.: B-1135) | City of Tupelo (09-04-4664P) | May 21, 2010; May 28, 2010; Northeast Mississippi Daily Journal | The Honorable Jack Reed, Jr., Mayor, City of Tupelo, P.O. Box 1485, Tupelo, MS 38802 | September 27, 2010 | 280100
Lee (FEMA Docket No.: B-1135) | Unincorporated areas of Lee County (09-04-4664P) | May 21, 2010; May 28, 2010; Northeast Mississippi Daily Journal | Mr. Sean Thompson, President, Lee County, P.O. Box 1785, Tupelo, MS 38801 | September 27, 2010 | 280227
Rankin (FEMA Docket No.: B-1156) | City of Flowood (10-04-5433P) | August 20, 2010; August 27, 2010; The Clarion-Ledger | The Honorable Gary Rhoads, Mayor, City of Flowood, P.O. Box 320069, Flowood, MS 39232 | August 10, 2010 | 280289
Missouri:
Jackson (FEMA Docket No.: B-1135) | City of Lee's Summit (09-07-1328P) | May 7, 2010; May 14, 2010; Lee's Summit Journal | The Honorable Karen R. Messerli, Mayor, City of Lee's Summit, 220 Southeast Green Street, Lee's Summit, MO 64063 | September 13, 2010 | 290174
St. Louis (FEMA Docket No.: B-1141) | City of Des Peres (09-07-0141P) | June 10, 2010; June 17, 2010; The Countian | The Honorable Richard G. Lahr, Mayor, City of Des Peres, 12325 Manchester Road, Des Peres, MO 63131 | October 15, 2010 | 290347
Nevada:
Independent City (FEMA Docket No.: B-1135) | City of Carson City (08-09-1740P) | May 12, 2010; May 19, 2010; Nevada Appeal | The Honorable Robert L. Crowell, Mayor, City of Carson City, 201 North Carson Street, Suite 2, Carson City, NV 89701 | April 30, 2010 | 320001
New Mexico:
Dona Ana (FEMA Docket No.: B-1135) | City of Las Cruces (08-06-2997P) | May 7, 2010; May 14, 2010; Las Cruces Sun-News | The Honorable Ken Miyagishima, Mayor, City of Las Cruces, 200 North Church Street, Las Cruces, NM 88001 | September 13, 2010 | 355332
South Carolina:
Chester (FEMA Docket No.: B-1156) | Unincorporated areas of Chester County (10-04-4509P) | August 20, 2010; August 27, 2010; News & Reporter | Mr. R. Carlisle Roddey, Chairman, Chester County Council, P.O. Box 580, Chester, SC 29706 | December 27, 2010 | 450047
Dorchester (FEMA Docket No.: B-1156) | City of North Charleston (10-04-1595P) | August 19, 2010; August 26, 2010; The Post and Courier | The Honorable R. Keith Summey, Mayor, City of North Charleston, 2500 City Hall Lane, North Charleston, SC 29406 | September 10, 2010 | 450042
Jasper (FEMA Docket No.: B-1135) | City of Hardeeville (09-04-5183P) | May 5, 2010; May 12, 2010; Jasper County Sun | The Honorable A. Brooks Willis, Mayor, City of Hardeeville, 205 East Main Street, Hardeeville, SC 29927 | September 9, 2010 | 450113
Jasper (FEMA Docket No.: B-1135) | Unincorporated areas of Jasper County (09-04-5183P) | May 5, 2010; May 12, 2010; Jasper County Sun | Dr. George Hood, Chairman, Jasper County Council, P.O. Box 1618, Ridgeland, SC 29936 | September 9, 2010 | 450112
York (FEMA Docket No.: B-1135) | City of Rock Hill (09-04-3659P) | May 20, 2010; May 27, 2010; The Herald | The Honorable Doug Echols, Mayor, City of Rock Hill, P.O. Box 11706, Rock Hill, SC 29731 | June 14, 2010 | 450196
York (FEMA Docket No.: B-1135) | Unincorporated areas of York County (09-04-3659P) | May 20, 2010; May 27, 2010; The Herald | Mr. Houston “Buddy” Motz, Chairman, York County Board of Commissioners, 2047 Poinsett Drive, Rock Hill, SC 29732 | June 14, 2010 | 450193
South Dakota:
Pennington (FEMA Docket No.: B-1135) | Unincorporated areas of Pennington County (09-08-0639P) | May 13, 2010; May 20, 2010; Rapid City Journal | Mr. Ethan Schmidt, Chairman, Pennington County Board of Commissioners, 315 Saint Joseph Street, Suite 156, Rapid City, SD 57701 | June 2, 2010 | 460064
Texas:
Denton (FEMA Docket No.: B-1135) | Unincorporated areas of Denton County (10-06-1747P) | May 13, 2010; May 20, 2010; Denton Record-Chronicle | The Honorable Mary Horn, Denton County Judge, 110 West Hickory Street, 2nd Floor, Denton, TX 76201 | September 17, 2010 | 480774
Jefferson (FEMA Docket No.: B-1141) | City of Beaumont (09-06-2516P) | June 10, 2010; June 17, 2010; Beaumont Enterprise | The Honorable Becky Ames, Mayor, City of Beaumont, 801 Main Street, Suite 205, Beaumont, TX 77704 | October 15, 2010 | 485457
Midland (FEMA Docket No.: B-1135) | City of Midland (08-06-2854P) | May 21, 2010; May 28, 2010; Midland Reporter-Telegram | The Honorable Wes Perry, Mayor, City of Midland, 300 North Loraine Street, Midland, TX 79701 | September 27, 2010 | 480477
Midland (FEMA Docket No.: B-1135) | Unincorporated areas of Midland County (08-06-2854P) | May 21, 2010; May 28, 2010; Midland Reporter-Telegram | The Honorable Michael R. Bradford, Midland County Judge, 200 West Wall Street, Suite 6, Midland, TX 79701 | September 27, 2010 | 481239
Wichita (FEMA Docket No.: B-1156) | City of Wichita Falls (10-06-1225P) | August 20, 2010; August 27, 2010; Wichita Falls Times Record News | The Honorable Glenn Barham, Mayor, City of Wichita Falls, P.O. Box 1431, Wichita Falls, TX 76307 | December 27, 2010 | 480662
Utah:
Washington (FEMA Docket No.: B-1156) | City of LaVerkin (10-08-0578P) | August 20, 2010; August 27, 2010; The Spectrum | The Honorable Karl Wilson, Mayor, City of LaVerkin, 111 South Main Street, LaVerkin, UT 84745 | August 11, 2010 | 490174
Washington (FEMA Docket No.: B-1156) | Town of Toquerville (10-08-0578P) | August 20, 2010; August 27, 2010; The Spectrum | The Honorable Darrin LeFevre, Mayor, Town of Toquerville, P.O. Box 27, Toquerville, UT 84774 | August 11, 2010 | 490180
Wisconsin:
Richland (FEMA Docket No.: B-1135) | City of Richland Center (09-05-1012P) | March 11, 2010; March 18, 2010; The Richland Observer | The Honorable Larry D. Fowler, Mayor, City of Richland Center, 450 South Main Street, Richland Center, WI 53581 | July 9, 2010 | 555576
Richland (FEMA Docket No.: B-1135) | Unincorporated areas of Richland County (09-05-1012P) | March 11, 2010; March 18, 2010; The Richland Observer | Ms. Ann Greenheck, Chairwoman, Richland County Board, 31709 State Highway 130, Lone Rock, WI 53556 | July 9, 2010 | 550356

(Catalog of Federal Domestic Assistance No. 97.022, “Flood Insurance.”)

Dated: February 7, 2011.
Sandra K. Knight,
Deputy Federal Insurance and Mitigation Administrator, Mitigation, Department of Homeland Security, Federal Emergency Management Agency.

[FR Doc. 2011-3511 Filed 2-15-11; 8:45 am]

BILLING CODE 9110-12-P